DEPARTMENT OF AGRICULTURE

Natural Resources Conservation Service

Glen Hills Watershed, Dunn and St. Croix Counties, WI

AGENCY: Natural Resources Conservation Service, USDA.

ACTION: Notice of a finding of no significant impact.

SUMMARY: Pursuant to Section 102(c) of the National Environmental Policy Act of 1969; the Council on Environmental Quality Regulations (40 CFR Part 1500); and the Natural Resources Conservation Service Regulations (7 CFR Part 650); the Natural Resources Conservation Service, U.S. Department of Agriculture, gives notice that an environmental impact statement is not being prepared for the Glen Hills Watershed, Dunn and St. Croix Counties, Wisconsin.

FOR FURTHER INFORMATION CONTACT: Patricia S. Leavenworth, State Conservationist, Natural Resources Conservation Service, 6515 Watts Road, Suite 200, Madison, Wisconsin, 53719. Telephone (608) 276-8732.

SUPPLEMENTARY INFORMATION: The environmental assessment of this federally assisted action indicates that the project will not cause significant local, or national impacts on the environment. As a result of these findings, Patricia S. Leavenworth, State Conservationist, has determined that the preparation and review of an environmental impact statement are not needed for this project.

The project purposes are flood prevention and recreation. The planned works of improvement include the removal of one single family dwelling from the hydraulic shadow of Structure Number 2, and the enactment of a county floodplain zoning ordinance which restricts future development within the hydraulic shadow of Structure Number 2.

The Notice of a Finding of No Significant Impact (FONSI) has been forwarded to the Environmental Protection Agency and to various Federal, State, and local agencies and interested parties. A limited number of copies of the FONSI are available to fill single copy requests at the above address. Basic data developed during the environmental assessment are on file and may be reviewed by contacting Sheryl B. Paczwa.

No administrative action on implementation of the proposal will be taken until 30 days after the date of this publication in the Federal Register.

Patricia S. Leavenworth,
State Conservationist.

[FR Doc. 01-287 Filed 1-4-01; 8:45 am]

BILLING CODE 3410-16-M